DEPARTMENT OF HEALTH AND HUMAN SERVICES

[Document Identifier: OS-0990-new]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before February 28, 2020.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Health Evaluation of Pregnancy Prevention Program Replications for High Risk and Hard to Reach Youth.

Type of Collection: OMB No. 0990-NEW.

Abstract: The Office of the Assistant Secretary for Health (OASH), U.S. Department of Health and Human Services (HHS), is requesting approval by OMB of a new information collection request. OASH seeks to collect information to understand whether previously proven adolescent pregnancy programs have similar effects on knowledge, attitudes, beliefs, intentions, and behaviors related to sexual activity and health among different youth in different locations, especially among understudied and hard-to-reach youth. We propose to collect both qualitative and quantitative information in a quasi-experimental design with a matched comparison group. Eight organizations implementing a broad range of previously proven-effective pregnancy prevention programs (including sexual health education, sexual risk avoidance, and youth development programs) will recruit hard to reach or high-risk youth. Youth will complete surveys at baseline, immediately following the intervention, and at three months follow-up, yielding quantitative data about youth knowledge, attitudes, beliefs, intentions, and behaviors related to sexual health. Surveys will last for about 50 minutes. Focus groups yielding qualitative data about youth perspectives about adolescent pregnancy prevention programs will occur after the interventions are complete and will last for approximately 90 minutes.

Need and Proposed Use of the Information: Rates of pregnancy among hard-to-reach, high-risk, vulnerable, or understudied youth are significantly higher than the general population. However, there have been few evaluations assessing whether programs that have been previously proven successful can be delivered successfully to these youth. Hence, this evaluation is intended to help fill the evidence gap about the efficacy and effectiveness of existing pregnancy prevention programs among high-risk, vulnerable, or understudied youth. To enhance the rigor of the evaluation, a matched comparison group will be identified from select implementing organizations and their communities. OASH plans to use the findings of this evaluation to inform guidance to HHS grantees and prospective grantees on approaches for replication of pregnancy prevention programs for hard-to-reach and underserved youth.

Likely respondents: Respondents will include youth aged 12-16 years old, and their parents/guardians. Respondents will also include youth in a matched comparison group (“comparison youth”).

Burden: Exhibit 1 summarizes the total annual burden hours estimated for this ICR. This hour-burden estimate includes time spent by program youth, comparison group youth, and parents/guardians of both groups to complete data collection for the ICR.

Respondents | Form name | Max number of respondents | Average burden per response (hours) | Total max burden (hours)
Youth Program Participants | Baseline survey and youth assent | 1,216 | 1.00 | 1,216
| First follow-up survey | 730 | 0.83 | 608
| 3-month follow-up survey | 438 | 0.83 | 365
| Focus group assent | 474 | 0.25 | 119
| Focus group protocol | 285 | 1.50 | 428
Youth Comparison Group Participants | Baseline survey and youth assent | 2,946 | 1.00 | 2,946
| First follow-up survey | 730 | 0.83 | 608
| 3-month follow-up survey | 438 | 0.83 | 365
Parents/Guardians | Parental consent | 4,163 | 0.25 | 1,041
Total |  |  |  | 7,696
Please Note: No. Responses per Respondent is 1. Each form is completed one time.

Terry Clark,
Office of the Secretary, Asst Paperwork Reduction Act Reports Clearance Officer.

[FR Doc. 2020-01573 Filed 1-28-20; 8:45 am]

BILLING CODE 4150-34-P